DEPARTMENT OF TRANSPORTATION

National Highway Traffic Safety Administration

[Docket No. NHTSA-2007-0030; Notice 1]

Graco Children's Products, Inc., Receipt of Petition for Decision of Inconsequential Noncompliance

Graco Children's Products, Inc. (Graco) has determined that certain child restraint systems that it manufactured between June 21, 2006 and October 26, 2007, did not fully comply with paragraphs S5.5.2(m) and S5.6.1.7 of 49 CFR 571.213, Federal Motor Vehicle Safety Standard (FMVSS) No. 213 Child Restraint Systems. Graco has filed an appropriate report pursuant to 49 CFR part 573, Defect and Noncompliance Responsibility and Reports.

Pursuant to 49 U.S.C. 30118(d) and 30120(h) (see implementing rule at 49 CFR part 556), Graco has petitioned for an exemption from the notification and remedy requirements of 49 U.S.C. Chapter 301 on the basis that this noncompliance is inconsequential to motor vehicle safety.

This notice of receipt of Graco's petition is published under 49 U.S.C. 30118 and 30120 and does not represent any agency decision or other exercise of judgment concerning the merits of the petition.

Affected are several million child restraint systems. Paragraph S5.5.2(m) of 49 CFR 571.213 requires that a child restraint system be permanently labeled with:

(m) One of the following statements, inserting an address and a U.S. telephone number. If a manufacturer opts to provide a Web site on the registration card as permitted in Figure 9a of this section, the manufacturer must include the statement in part (ii):

(i) “Child restraints could be recalled for safety reasons. You must register this restraint to be reached in a recall. Send your name, address, e-mail address if available (preceding four words are optional) and the restraint's model number and manufacturing date to (insert address) or call (insert a U.S. telephone number). For recall information, call the U.S. Government's Vehicle Safety Hotline at 1-888-327-4236 (TTY: 1-800-424-9153), or go to http://www.NHTSA.gov.”

(ii) “Child restraints could be recalled for safety reasons. You must register this restraint to be reached in a recall. Send your name, address, e-mail address if available [preceding four words are optional], and the restraint's model number and manufacturing date to (insert address) or call (insert a U.S. telephone number) or register online at (insert Web site for electronic registration form). For recall information, call the U.S. Government's Vehicle Safety Hotline at 1-888-327-4236 (TTY: 1-800-424-9153), or go to http://www.NHTSA.gov.”

See also S5.6.1.7 of 49 CFR 571.213.

Graco explains that all subject child restraint systems failed to comply with the above requirements because labels attached to them did not include Graco's electronic registration Web site address. In addition, some models of these restraint systems also had labels that included an incorrect NHTSA Hotline telephone number.

Graco states that although the Hotline number printed on the labels is incorrect (i.e., the labels show the superseded NHTSA Hotline number), Graco has procured the former Hotline number and is prepared to have all calls to that outdated number automatically routed to the correct number (i.e., the current NHTSA Hotline number) for a period of seven years.

Graco additionally states that although its electronic registration Web site address is not on the restraint systems, its toll free telephone number appears in at least two places on all the restraint systems. Also, full contact information, including the Graco's company Web site address, appears in the owner's manual of every child restraint system manufactured by Graco.

Graco states that neither the incorrect NHTSA Hotline number nor the absence of Graco's Web site address have any effect on the crashworthiness of the restraint systems. Therefore, Graco states that these noncompliances are inconsequential to motor vehicle safety.

Graco notes that it has stopped shipment of the restraint systems with incorrect labels and ceased production of new seats while corrected labels are being printed. Graco proposes two measures as “an interim solution to bring infant and child seats produced with the incorrect label into substantial compliance.” First, Graco reiterates its proposal to have calls to the incorrect NHTSA Hotline number automatically rerouted to the correct number, which has been made possible by Graco's obtaining the rights to the old number. Graco also proposes to send a broadcast e-mail with a direct link to Graco's online registration Web site to approximately 570,000 consumers about the importance of registration of their child restraint systems. The e-mail would be sent to approximately 570,000 consumers who have either registered their child restraint systems through Graco, requested Graco's newsletter, or whose names have been acquired from prenatal lists. Graco believes that providing the direct Graco online registration link will allow those consumers to register their Graco-brand seats once they have received the e-mail.

In summary, Graco states that it does not believe the noncompliances described above appreciably impact motor vehicle safety, and that while the label information required by NHTSA is important, so is the need to have safety equipment available to consumers. Graco argues that prioritization is especially important because cessation of their current shipping and production could jeopardize supplies of Graco child restraint systems to consumers.

We note that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions apply to vehicles and equipment that have already passed from the manufacturer to an owner, purchaser, or dealer.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

The petition, supporting materials, and all comments received before the close of business on the closing date indicated below will be filed and will be considered. Please note that we are allowing just 10 days for comment in order to expedite resolution of this matter. All comments and supporting materials received after the closing date will also be filed and will be considered to the extent possible. When the petition is granted or denied, notice of the decision will be published in the Federal Register pursuant to the authority indicated below.

Comment closing date: December 10, 2007.

Authority: 49 U.S.C. 30118, 30120: delegations of authority at CFR 1.50 and 501.8.

Issued on: November 2, 2007.
Daniel C. Smith
Associate Administrator for Enforcement.

[FR Doc. E7-21903 Filed 11-7-07; 8:45 am]

BILLING CODE 4910-59-P